FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than September 30, 2009.

A. Federal Reserve Bank of Chicago (Colette A. Fried, Assistant Vice President) 230 South LaSalle Street, Chicago, Illinois 60690-1414:

1. Douglas N. Neighbor, Kent M. Neighbor, and Gene R. Neighbor, individually to acquire, and the Neighbor Family which consists of Doug and Marva Neighbor, Marion, Iowa; Gene and Betty Jean Neighbor, Alburnett, Iowa; Kent and Irene Neighbor, Winthrop, Iowa; Sandra K. Waring, Walker, Iowa; Steven K. Neighbor; Scott M. Neighbor; Mark A. Neighbor, all of Center Point, Iowa; Eldon L. Neighbor, Central City, Iowa; Konnie I. Borrett, Marion, Iowa; Stephanie R. Neighbor, Cedar Rapids, Iowa; Brent B. Neighbor, Tijeras, New Mexico; Brad D. Neighbor, Espanola, New Mexico; Todd D. Neighbor, Marion, Iowa; Jason M. Neighbor, Alburnett, Iowa; and Michael G. Neighbor, Bettendorf, Iowa; as a group acting in concert, to retain voting shares of Neighbor Insurance Agency, Marion, Iowa, and thereby acquire, and or retain voting shares of Farmers State Bank, Marion, Iowa.

Board of Governors of the Federal Reserve System, September 10, 2009.
Robert deV. Frierson,
Deputy Secretary of the Board.

[FR Doc. E9-22143 Filed 9-14-09; 8:45 am]

BILLING CODE 6210-01-S